SOCIAL SECURITY ADMINISTRATION

[Docket No. SSA-2011-0079]

Notice of Senior Executive Service Performance Review Board Membership

AGENCY: Social Security Administration.

ACTION: Notice of Senior Executive Service Performance Review Board Membership.

Title 5, U.S. Code, 4314 (c)(4), requires that the appointment of Performance Review Board members be published in the Federal Register before service on said Board begins.

The following persons will serve on the Performance Review Board which oversees the evaluation of performance appraisals of Senior Executive Service members of the Social Security Administration:

Sean Brune;

Robert Emrich; *

Brad Flick;

Stephanie Hall; *

Reginald Jackson; *

Patricia Jonas; *

Gwenda Jones Kelley; *

Van Nguyen; *

Thomas Parrott; *

Steven Patrick;

DeBorah Russell; *

Vance Teel; *

Daryl Wise.

* New Member.

Dated: September 12, 2011.
Reginald F. Wells,
Deputy Commissioner for Human Resources.

[FR Doc. 2011-24206 Filed 9-20-11; 8:45 am]

BILLING CODE 4191-02-P